DEPARTMENT OF COMMERCE

National Oceanic and Atmospheric Administration

50 CFR Part 648

[Docket No. 050708184-5184-01; I.D. 070105B]

RIN 0648-AT50

Fisheries of the Northeastern United States; Atlantic Bluefish and Summer Flounder Fisheries

AGENCY: National Marine Fisheries Service (NMFS), National Oceanic and Atmospheric Administration (NOAA), Commerce.

ACTION: Proposed rule; request for comments.

SUMMARY: NMFS proposes to amend the regulations implementing the Fishery Management Plan (FMP) for the Atlantic bluefish fishery and the FMP for the summer flounder, scup, and black sea bass fisheries. This rule would make administrative changes that would allow NMFS to consider and process state commercial quota transfer requests that address late-season circumstances that necessitate a state quota transfer and that occur through December 31 (the end of the fishing year for the bluefish and summer flounder fisheries). The intent of this action is solely to provide the flexibility to address unpredictable late-season events (such as severe weather or port obstruction) that may result in safety concerns in the commercial bluefish and summer flounder fisheries.

DATES: Written comments must be received on or before August 10, 2005.

ADDRESSES: You may submit comments by any of the following methods:

• E-mail: BF-SFtransfer@noaa.gov. Include in the subject line the following identifier: “Comments on Bluefish and Summer Flounder State Quota Transfer Amendment.”

• Federal e-Rulemaking portal: http://www.regulations.gov.

• Mail: Patricia A. Kurkul, Regional Administrator, NMFS, Northeast Regional Office, One Blackburn Drive, Gloucester, MA 01930. Mark the outside of the envelope: “Comments on Bluefish and Summer Flounder State Quota Transfer Amendment.”

• Fax: (978) 281-9135.

FOR FURTHER INFORMATION CONTACT: Sarah McLaughlin, Fishery Policy Analyst, (978) 281-9279, fax (978) 281-9135.

SUPPLEMENTARY INFORMATION:

Background

The bluefish and summer flounder fisheries are managed cooperatively by the Atlantic States Marine Fisheries Commission (Commission) and the Mid-Atlantic Fishery Management Council (Council), in consultation with the New England and South Atlantic Fishery Management Councils. Regulations implementing the Atlantic Bluefish FMP appear at 50 CFR part 648, subparts A and J. Regulations implementing the summer flounder portion of the Summer Flounder, Scup, and Black Sea Bass FMP appear at 50 CFR part 648, subparts A and G. The regulations regarding quota transfers and combinations for the bluefish and summer flounder fisheries are found at §§ 648.160 and 648.100, respectively. For each fishery, the FMPs establish state allocations of the commercial quotas, and current Federal regulations outline a process by which a state may request written approval from the Regional Administrator to transfer all or part of its annual commercial quota to one or more other states. Two or more states may request approval from the Regional Administrator to combine their commercial quotas, or part of their quotas, into an overall regional quota. As established initially through implementation of Amendment 1 to the Bluefish FMP (65 FR 45844, July 26, 2000) and Amendment 5 to the Summer Flounder FMP (58 FR 65937, December 17, 1993), the transfer of quota or the combination of quotas, if approved, is valid only for the calendar year for which the request was made and is effective upon the filing by NMFS of a notice of the approval of the transfer or combination with the Office of the Federal Register. Because the regulations stipulate that quota transfers and/or combinations are effective upon filing of a notice of approval with the Office of the Federal Register, NMFS is precluded from making quota transfers and/or combinations that file with the Office of the Federal Register in January of a given year, retroactively effective for the previous fishing year.

At its March 2005 meeting, the Council raised a concern regarding the current NMFS policy of considering only quota transfer requests submitted by December 15 of each year. NMFS established this policy to ensure that a notice announcing the quota transfer could be filed with the Office of the Federal Register by the end of the year for which the request is made. However, the Council is concerned that unforeseen circumstances such as severe weather or physical obstruction may prevent vessels from returning safely to their intended port of landing and that this situation has arisen and may continue to arise during the second half of December in any given year. End-of-year transfers of quota allow vessels to land in another state without causing overharvest of that state's fishing year quota, provided that both states agree to the transfer. At its May 2005 meeting, the Council passed a motion requesting that NMFS remove the text regarding time of effectiveness from the state commercial quota transfer regulations for both the bluefish and summer flounder fisheries at §§ 648.160(f)(2) and 648.100(d)(4), respectively. NMFS agrees that this administrative change in the regulations would facilitate the consideration and processing of state quota transfer requests to address unpredictable late-season events and consequent safety issues in these fisheries. This proposed rule would eliminate the references to time of effectiveness in the bluefish and summer flounder quota transfer and combination regulations. With these changes, quota transfer requests addressing unforeseen conditions in either fishery that arise late in the fishing year could be approved, even if the transfer request is made early in the subsequent fishing year. Any quota transfer would continue to be valid only for the calendar year for which the request is made, and would therefore have no impact on the resource or the mortality objectives of the FMPs.

Classification

NMFS has determined that the proposed rule is consistent with the Atlantic bluefish FMP and the Summer Flounder, Scup, and Black Sea Bass FMP and has preliminarily determined that the rule is consistent with the Magnuson-Stevens Fishery Conservation and Management Act and other applicable laws.

This proposed rule has been determined to be not significant for purposes of Executive Order 12866.

The Chief Counsel for Regulation of the Department of Commerce certified to the Chief Counsel for Advocacy of the Small Business Administration that this proposed rule, if adopted, would not have a significant economic impact on a substantial number of small entities. The proposed rule is administrative in nature and merely would eliminate the specification that bluefish and summer flounder quota transfer or combination requests will be effective upon filing of a notice of approval with the Office of the Federal Register. This would allow NMFS to consider and process state quota transfer requests that address late-season circumstances that necessitate a state quota transfer and that occur through December 31 (the end of the fishing year for the bluefish and summer flounder fisheries), even if the notice announcing the transfer were filed with the Office of the Federal Register after the start of the subsequent fishing year. A quota transfer would continue to be valid only for the calendar year (and fishing year) for which the request is made. This rule would not alter the results of the Regulatory Flexibility Analyses prepared annually to address economic impacts to individual vessels resulting from the specification of annual quotas in these fisheries. As a result, an initial regulatory flexibility analysis is not required and none has been prepared. The proposed action would provide flexibility to mitigate safety concerns and would impose no burden on small entities.

List of Subjects in 50 CFR Part 648

Fisheries, Fishing, Reporting and recordkeeping requirements.

Dated: July 20, 2005.
James W. Balsiger
Acting Deputy Assistant Administrator for Regulatory Programs, National Marine Fisheries Service.

For the reasons stated in the preamble, 50 CFR part 648 is proposed to be amended as follows:

PART 648—FISHERIES OF THE NORTHEASTERN UNITED STATES

1. The authority citation for part 648 continues to read as follows:

Authority: 16 U.S.C. 1801 et seq.

2. In § 648.100, revise paragraph (d)(4) to read as follows:

§ 648.100 Catch quotas and other restrictions.

* * * * *

(d) * * *

(4) The transfer of quota or the combination of quotas will be valid only for the calendar year for which the request was made.

* * * * *

3. In § 648.160, revise paragraph (f)(2) to read as follows:

§ 648.160 Catch quotas and other restrictions.

* * * * *

(f) * * *

(2) The transfer of quota or the combination of quotas will be valid only for the calendar year for which the request was made.

* * * * *

[FR Doc. 05-14725 Filed 7-25-05; 8:45 am]

BILLING CODE 3510-22-S